DEPARTMENT OF THE INTERIOR

[RR04000000, 144R0680R1, RR.17549897.2014001.02]

Draft Environmental Assessment of the Proposed Olmsted Hydroelectric Power Plant Replacement Project

AGENCY: Office of the Assistant Secretary—Water and Science Central Utah Project Completion Act Office, Interior.

ACTION: Notice of availability.

SUMMARY: The Department of the Interior and the Central Utah Water Conservancy District, as joint leads, are evaluating the impacts of a proposed replacement of the Olmsted Hydroelectric Power Plant, and have prepared an associated Draft Environmental Assessment for public review.

DATES: Submit written comments on the Draft Environmental Assessment by October 22, 2014.

ADDRESSES: Send written comments on the Draft Environmental Assessment to Mr. Chris Elison, 355 W. University Parkway, Orem, UT 84058-7303; by email to chrise@cuwcd.com; or by facsimile to 801-226-7150.

Copies of the Draft Environmental Assessment are available for inspection at:

• Central Utah Water Conservancy District, 355 West University Parkway, Orem, Utah 84058-7303

• Department of the Interior, Central Utah Project Completion Act Office, 302 East 1860 South, Provo, Utah 84606

In addition, the document is available at www.cuwcd.com, www.cupcao.gov, or www.cuwcd.com/olmsted/index.html.

FOR FURTHER INFORMATION CONTACT: Mr. W. Russ Findlay, Central Utah Project Completion Act Office, 302 East 1860 South, Provo, Utah 84606; by calling 801-379-1084; or email at wfindlay@usbr.gov.

SUPPLEMENTARY INFORMATION: The Department of the Interior, and Central Utah Water Conservancy District are publishing this notice pursuant to Section 102(2)(c) of the National Environmental Policy Act of 1969, as amended. The Draft Environmental Assessment presents analysis of the anticipated environmental effects of a proposed replacement of the Olmsted Hydroelectric Power Plant. The Proposed Action in the Draft Environmental Assessment includes: Constructing a new powerhouse, replacing the penstocks, modifying existing operations to utilize the 10 million gallon Olmsted Flow Equalization Reservoir, marketing the power generated, constructing operation and maintenance facilities, and improving access to the site.

We are requesting public comment on the Draft Environmental Assessment. Before including your address, phone number, email address, or other personal identifying information in your comment, you should be aware that your entire comment—including your personal identifying information—may be made publicly available at any time.

While you can ask us in your comment to withhold your personal identifying information from public review, we cannot guarantee that we will be able to do so.

Dated: August 26, 2014.
Reed R. Murray,
Program Director, Central Utah Project Completion Act, Department of the Interior.

[FR Doc. 2014-21768 Filed 9-19-14; 8:45 am]

BILLING CODE 4310-MN-P